ENVIRONMENTAL PROTECTION AGENCY

[FRL-9294-5]

Clean Water Act Section 303(d): Availability of List Decisions

AGENCY: Environmental Protection Agency (EPA).

ACTION: Notice of availability.

SUMMARY: This notice announces the availability of EPA's action identifying water quality limited segments and associated pollutants in Louisiana to be listed pursuant to Clean Water Act Section 303(d), and request for public comment. Section 303(d) requires that States submit and EPA approve or disapprove lists of waters for which existing technology-based pollution controls are not stringent enough to attain or maintain State water quality standards and for which total maximum daily loads (TMDLs) must be prepared.

On April 5, 2011, EPA partially approved and proposed to partially disapprove Louisiana's 2008 Section 303(d) submittal. Specifically, EPA approved Louisiana's listing of 409 waterbody pollutant combinations, and associated priority rankings. EPA proposed to disapprove Louisiana's decisions not to list three waterbodies. These three waterbodies were added by EPA because the applicable numeric water quality standards marine criterion for dissolved oxygen was not attained in these segments. EPA is providing the public the opportunity to review its proposed decisions to add the three waters to Louisiana's 2008 Section 303(d) List. EPA will consider public comments and if necessary amend its proposed action on the additional waterbodies identified for inclusion on Louisiana's Final 2008 Section 303(d) List.

DATES: Comments must be submitted in writing to EPA on or before May 13, 2011.

ADDRESSES: Comments on the decisions should be sent to Diane Smith, Environmental Protection Specialist, Water Quality Protection Division, U.S. Environmental Protection Agency Region 6, 1445 Ross Ave., Dallas, TX 75202-2733, telephone (214) 665-2145, facsimile (214) 665-6490, or e-mail: smith.diane@epa.gov. Oral comments will not be considered. Copies of the documents which explain the rationale for EPA's decisions and a list of the 3 water quality limited segments for which EPA proposed disapproval of Louisiana's decisions not to list can be obtained at EPA Region 6's Web site at http://www.epa.gov/region6/water/npdes/tmdl/index.htm, or by writing or calling Ms. Smith at the above address. Underlying documents from the administrative record for these decisions are available for public inspection at the above address. Please contact Ms. Smith to schedule an inspection.

FOR FURTHER INFORMATION CONTACT: Diane Smith at (214) 665-2145.

SUPPLEMENTARY INFORMATION: Section 303(d) of the Clean Water Act (CWA) requires that each State identify those waters for which existing technology-based pollution controls are not stringent enough to attain or maintain State water quality standards. For those waters, States are required to establish Total Maximum Daily Loads (TMDLs) according to a priority ranking. EPA's Water Quality Planning and Management regulations include requirements related to the implementation of Section 303(d) of the CWA (40 CFR 130.7). The regulations require States to identify water quality limited waters still requiring TMDLs every two years. The list of waters still needing TMDLs must also include priority rankings and must identify the waters targeted for TMDL development during the next two years (40 CFR 130.7). On March 31, 2000, EPA promulgated a revision to this regulation that waived the requirement for States to submit Section 303(d) lists in 2000 except in cases where a court order, consent decree, or settlement agreement required EPA to take action on a list in 2000 (65 FR 17170).

Consistent with EPA's regulations, Louisiana submitted to EPA its listing decisions under Section 303(d) on August 25, 2009. On April 5, 2011, EPA approved Louisiana's listing of 409 water body-pollutant combinations and associated priority rankings. EPA proposed to disapprove Louisiana's decisions not to list three waterbodies. These three waterbodies were proposed for addition by EPA because the applicable numeric water quality standards marine criterion for dissolved oxygen was not attained in these segments. EPA solicits public comment on its identification of three additional waters for inclusion on Louisiana's 2008 Section 303(d) List.

Dated: April 6, 2011.
Miguel I. Flores,
Director, Water Quality Protection Division.

[FR Doc. 2011-8963 Filed 4-12-11; 8:45 am]

BILLING CODE 6560-50-P